ENVIRONMENTAL PROTECTION AGENCY

[FRL-6845-1]

Agency Information Collection Activities; Submission for OMB Review; Comment Request; Voluntary Cover Sheet for TSCA Submissions

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Voluntary Cover Sheet for TSCA Submissions; EPA ICR No. 1780.02; OMB Control No. 2070-0156. The ICR is abstracted below and describes the nature of the information collection and its estimated cost and burden.

DATES: Additional comments may be submitted on or before September 5, 2000.

ADDRESSES: Send comments, referencing EPA ICR No. 1780.02 and OMB Control No. 2070-0156, to the following addresses: Sandy Farmer, U.S. Environmental Protection Agency, Collection Strategies Division (Mail Code: 2822), 1200 Pennsylvania Avenue, NW., Washington, DC 20460; and to: Office of Information and Regulatory Affairs, Office of Management and Budget (OMB), Attention: Desk Officer for EPA, 725 17th Street, NW., Washington, DC 20503.

FOR FURTHER INFORMATION CONTACT: Sandy Farmer at EPA by phone on (202) 260-2740, by e-mail: “farmer.sandy@epamail.epa.gov,” or download off the Internet at http://www.epa.gov/icr/icr.htm and refer to EPA ICR No. 1780.02.

SUPPLEMENTARY INFORMATION: Title: Voluntary Cover Sheet for TSCA Submissions (OMB Control No. 2070-0156; EPA ICR No. 1780.02) expiring 09/30/2000. This is a request for extension of a currently approved collection.

Abstract: The Toxic Substances Control Act (TSCA) requires industry to submit information and studies for existing chemical substances under sections 4, 6, and 8. Under normal reporting conditions, EPA receives approximately 1,700 submissions each year; each submission represents on average three studies. In addition, specific data call-ins can be imposed on industry.

The Agency, in cooperation with industry stakeholders, is pursuing the electronic transfer of TSCA summary data and of full submissions to EPA. The Chemical Manufacturers Association developed a standardized cover sheet for voluntary use by industry to begin familiarizing companies with standard requirements and concepts of electronic transfer. This form was designed for voluntary use as a cover sheet for submissions of information under TSCA sections 4, 8(d) and 8(e). The cover sheet facilitates submission of information by displaying certain basic data elements, permitting EPA more easily to identify, log, track, distribute, review and index submissions, and to make information publicly available more rapidly and at reduced cost, to the mutual benefit of both the respondents and EPA. The information collection request referenced in this notice applies to the use of this form/cover sheet.

Responses to the collection of information are voluntary. Respondents may claim all or part of a document confidential. EPA will disclose information that is covered by a claim of confidentiality only to the extent permitted by, and in accordance with, the procedures in TSCA section 14 and 40 CFR part 2. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on October 1, 1999 (64 FR 53377). EPA received no comments on this ICR during the comment period.

Burden Statement: The annual public reporting burden for this collection of information is estimated to average 0.5 hours per response. Burden means the total time, effort, or financial resources expended by persons to generate, maintain, retain, or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Companies that manufacture, process, use or import chemical substances and that are subject to reporting requirements under TSCA sections 4, 8(d) or 8(e).

Frequency of Collection: On occasion.

Estimated No. of Respondents: 1,830.

Estimated Total Annual Burden on Respondents: 915 hours.

Estimated Total Annual Non-Labor Costs: $0.

Changes in Burden Estimates: The total burden associated with this ICR has decreased from 1,348 hours in the previous ICR to 915 for this ICR. This decrease in burden represents an adjustment resulting from a net decrease in the number of submissions expected.

According to the procedures prescribed in 5 CFR 1320.12, EPA has submitted this ICR to OMB for review and approval. Any comments related to the renewal of this ICR should be submitted within 30 days of this notice, as described above.

Dated: July 20, 2000.
Oscar Morales,
Director, Collection Strategies Division.

[FR Doc. 00-19684 Filed 8-2-00; 8:45 am]

BILLING CODE 6560-50-P